DEPARTMENT OF THE INTERIOR

Bureau of Land Management

[CA-169-1610-DU]

Notice of Public Meeting, Carrizo Plain National Monument Advisory Committee

ACTION: Meeting notice.

SUMMARY: In accordance with the Federal Land Policy and Management Act (FLPMA) and the Federal Advisory Committee Act of 1972 (FACA), the U.S. Department of the Interior, Bureau of Land Management (BLM) National Monument Advisory Committee for the Carrizo Plain National Monument will meet as indicated below.

DATES: The meeting will be held Saturday, June 7, 2003 at the Carrisa Plains Elementary School, State Highway 58, near California Valley and Simmler, CA, beginning at 10 a.m. and continuing until 5 p.m. There will be a public comment period from 3 p.m. until 4 p.m.

SUPPLEMENTARY INFORMATION: The nine-member Carrizo Plain National Monument Advisory Committee advises the Secretary of the Interior, through the Bureau of Land Management, on a variety of public land issues associated with public land management in the Carrizo Plain National Monument in central California. At this meeting, monument staff will be presenting a progress report on the new Carrizo Plain National Monument Resource Management Plan, including alternatives. The meeting is open to the public. The public may present written comments to the committee and time will be allocated for hearing public comments. Depending on the number of persons wishing to comment and the time available, the time for individual oral comments may be limited. Individuals who plan to attend and need special assistance such as sign language interpretation or other reasonable accommodations should contact the BLM as indicated above.

FOR FURTHER INFORMATION CONTACT: Marlene Braun, Carrizo Plain National Monument Manager, 3801 Pegasus Drive, Bakersfield, CA 93308, telephone (661) 391-6119.

Dated: May 9, 2003.
John Dearing,
Public Affairs Specialist.

[FR Doc. 03-12212 Filed 5-15-03; 8:45 am]

BILLING CODE 4310-40-P